DEPARTMENT OF TRANSPORTATION

Research and Special Programs Administration

49 CFR Part 195

[Docket RSPA-99-5455; Amdt. 195-71]

RIN 2137-AC34

Pipeline Safety: Areas Unusually Sensitive to Environmental Damage

AGENCY: Research and Special Programs Administration (RSPA), Department of Transportation.

ACTION: Final rule; delay of effective date.

SUMMARY: In accordance with the memorandum of January 20, 2001, from the Assistant to the President and Chief of Staff, entitled “Regulatory Review Plan,” published in the Federal Register on January 24, 2001, this action temporarily delays for 60 days the effective date of the final rule titled “Pipeline Safety: Areas Unusually Sensitive to Environmental Damage,” published in the Federal Register on December 21, 2000, 65 FR 80530. That rule defines drinking water and ecological areas that are unusually sensitive to environmental damage if there is a hazardous liquid pipeline release.

DATES: The effective date of the final rule is delayed for 60 days, from February 20, 2001, to a new effective date of April 21, 2001.

FOR FURTHER INFORMATION CONTACT: Christina Sames at (202) 366-4561 or christina.sames@rspa.dot.gov. Copies of this document or other material in the docket can be obtained from the Dockets Facility, U.S. DOT, Room #PL-401, 400 Seventh Street, SW, Washington, DC 20590-0001. The Dockets Facility is open from 9:00 a.m. to 5:00 p.m., Monday through Friday, except on Federal holidays when the facility is closed. The public may review material in the docket by accessing the Docket Management System's home page at http://dms.dot.gov.

SUPPLEMENTARY INFORMATION: To the extent that 5 U.S.C. section 553 applies to this action, it is exempt from notice and comment because it constitutes a rule of procedure under 5 U.S.C. section 553(b)(A). Alternatively, the RSPA's implementation of this action without opportunity for public comment, effective immediately upon publication today in the Federal Register, is based on the good cause exceptions in 5 U.S.C. section 553(b)(B) and 553(d)(3). Seeking public comment is impracticable, unnecessary and contrary to the public interest. The temporary 60-day delay in effective date is necessary to give Department officials the opportunity for further review and consideration of new regulations, consistent with the Assistant to the President's memorandum of January 20, 2001. Given the imminence of the effective date, seeking prior public comment on this temporary delay would have been impractical, as well as contrary to the public interest in the orderly promulgation and implementation of regulations. The imminence of the effective date is also good cause for making this action effective immediately upon publication.

Issued in Washington, DC on January 31, 2001.
Edward A. Brigham,
Acting Deputy Administrator.

[FR Doc. 01-3214 Filed 2-7-01; 8:45 am]

BILLING CODE 4910-60-P